DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground *Elevation in feet (NGVD) +Elevation in feet (NAVD) Modified
Parkston, South Dakota
Docket No.: FEMA-B-7454
South Dakota | City of Parkston, Hutchinson County | Pony Creek | Approximately 1,100 feet downstream of Glynn Drive | *1,378
|  |  | Approximately 200 feet upstream of Highway 37 | *1,407
# Depth in feet above ground
*National Geodetic Vertical Datum
+North American Vertical Datum
ADDRESSES
City of Parkston:
Maps are available for inspection at the Office of the Chief Executive Officer, 207 West Main Street, Parkston, South Dakota 57366.
Send comments to the Honorable David J. Hoffman, Mayor, City of Parkston, 207 West Main Street, Parkston, South Dakota 57366.

Flooding source(s) | Location of referenced elevation | *Elevation in feet (NGVD) +Elevation in feet (NAVD) # Depth in feet above ground Modified | Communities affected
Adams County, Colorado and Incorporated Areas
Docket No.: FEMA-B-7460
Basin 4100 | 60 feet upstream of Colorado Boulevard 300 feet upstream of Thornton Parkway | +5095 +5223 | Adams County (Unincorporated Areas), City of Thornton.
Bear Gulch | Confluence with Box Elder Creek Approximately 100 feet downstream from Quail Run Mile Road | +5283 +5536 | Adams County (Unincorporated Areas).
Bear Gulch Tributary D | Approximately 900 feet upstream of the confluence with Bear Gulch Approximately 400 feet downstream of future Quail Run Road alignment | +5410 +5440 | Adams County (Unincorporated Areas).
Bear Gulch Tributary E | Confluence with Bear Gulch 1115 feet upstream from confluence with Bear Gulch | +5388 +5390 | Adams County (Unincorporated Areas).
Bear Gulch Tributary G | Confluence with Bear Gulch 320 feet upstream from Quail Run Mile Road | +5335 +5367 | Adams County (Unincorporated Areas).
Box Elder Creek | Approximately 130 feet downstream from East 168th Avenue 3000 feet north of the Union Pacific Railroad | +5054 +5516 | Adams County (Unincorporated Areas).
Clear Creek | Confluence with South Platte River At Sheridan Boulevard | +5106 +5263 | Adams County (Unincorporated Areas).
Clear Creek North Overflow | Confluence with Clear Creek At Sheridan Boulevard | +5222 +5263 | Adams County (Unincorporated Areas).
Coyote Run | Confluence with Box Elder Creek Immediately downstream of U.S. 36 | +5394 +5512 | Adams County (Unincorporated Areas).
Hayesmount Creek | Approximately 130 feet downstream from East 168th Avenue Adams/Denver County Line | +5071 +5234 | Adams County (Unincorporated Areas).
Hayesmount Creek East Tributary | Confluence with Hayesmount Creek Approximately 5800 feet upstream from East 120th Avenue | +5190 +5234 | Adams County (Unincorporated Areas).
Hayesmount Creek West Tributary | Confluence with Hayesmount Creek Approximately 9000 feet upstream from East 128th Avenue | +5165 +5225 | Adams County (Unincorporated Areas).
South Platte River | Approximately 130 feet downstream from East 168th Avenue At Franklin Street | +4956 +5138 | Adams County (Unincorporated Areas), City of Brighton, City of Commerce City, City of Thornton.
# Depth in feet above ground
*National Geodetic Vertical Datum
+North American Vertical Datum
ADDRESSES
City of Brighton:
Maps are available for inspection at 22 South 4th Avenue, Brighton, Colorado 80601.
Send comments to the Honorable Jan Pawlowski, Mayor, City of Brighton, 22 South 4th Avenue, Brighton, Colorado 80601.
City of Commerce City:
Maps are available for inspection at 5291 East 60th Avenue, Commerce City, Colorado 80022.
Send comments to the Honorable Sean Ford, Mayor, City of Commerce City, 5291 East 60th Avenue, Commerce City, Colorado 80022.
City of Thornton:
Maps are available for inspection at Infrastructure Maintenance Center, 12450 Washington Street, Thornton, Colorado 80229.
Send comments to the Honorable Noel Busck, Mayor, City of Thornton, 9500 Civic Center Drive, Thornton, Colorado 80229.
Unincorporated Areas of Adams County:
Maps are available for inspection at 12200 North Pecos Street, Third Floor, Westminster, Colorado 80234.
Send comments to Commissioner Larry W. Pace, Chairman, Board of County Commissioners, 450 South 4th Avenue, Brighton, Colorado 80601.

(Catalog of Federal Domestic Assistance No. 83.100, “Flood Insurance.”)

Dated: September 26, 2006.
David I. Maurstad,
Director, Mitigation Division, Federal Emergency Management Agency, Department of Homeland Security.

[FR Doc. E6-16660 Filed 10-6-06; 8:45 am]

BILLING CODE 9110-12-P